DEPARTMENT OF ENERGY

Federal Energy Regulatory Commission

[Docket No. RM15-20-000]

Five-Year Review of the Oil Pipeline Index; Notice Regarding Conference

On June 30, 2015, the Commission issued a notice of inquiry (NOI) in the above-captioned proceeding initiating its five-year review of the oil pipeline index. The Commission stated that it planned to hold a conference on July 30, 2015, regarding the issues raised by the NOI.¹

¹ Five-Year Review of the Oil Pipeline Index, 151 FERC ¶ 61,278 (2015).

The conference will be held on July 30, 2015, from 2:00 p.m. to 3:30 p.m. (EST), at the offices of the Federal Energy Regulatory Commission, 888 First Street NE., Washington, DC 20426. The conference will be led by Commission Staff and may be attended by one or more Commissioners.

The purpose of the conference is to gain an understanding of the positions of the parties in advance of the filed comments in this proceeding. At the conference, interested persons will be permitted to give brief presentations regarding the index level proposed in the notice of inquiry and any alternative methodologies for calculating the index level. Each presenter will be allowed up to 15 minutes as time permits based on the number of presentations.

The technical conference will not be transcribed. However, there will be a free webcast of the conference. The webcast will allow persons to listen to the technical conference, but not participate. Anyone with Internet access who wants to listen to the conference can do so my navigating to the Calendar of Events at www.ferc.gov and locating the technical conference in the Calendar. The Calendar will contain a link to the webcast. The Capitol Connection provides technical support for the webcast and offers the option of listening to the meeting via a phone-bridge for a fee. If you have any questions, visit www.CapitolConnection.org or call 703-993-3100.²

² The webcast will continue to be available on the Calendar of Events on the Commission's Web site at www.ferc.gov for three months after the conference.

Those interested in providing presentations are asked to submit a brief request to speak in this docket on or before July 15, 2015, by completing the form available at: (https://www.ferc.gov/whats-new/registration/07-30-15-RM-15-20-000-speaker-form.asp). Once the speaking requests have been submitted, a further notice will be issued with the speaking schedule for the conference.

This conference is open to the public. Pre-registration for attending is not required, but is recommended. Registrations can be made at: (https://www.ferc.gov/whats-new/registration/07-30-15-form.asp).

Commission conferences are accessible under section 208 of the Rehabilitation Act of 1973. For accessibility accommodations, please send an email to accessibility@ferc.gov or call toll free 1-866-208-3372 (voice) or 202-502-8659 (TTY); or send a fax to 202-208-2106 with the required accommodations.

For further information about these conferences, please contact: Sarah McKinley, Office of External Affairs, (202) 502-8004, Sarah.McKinley@ferc.gov.

Dated: July 10, 2015.
Nathaniel J. Davis, Sr.,
Deputy Secretary.

[FR Doc. 2015-17423 Filed 7-15-15; 8:45 am]

BILLING CODE 6717-01-P